NUCLEAR REGULATORY COMMISSION

[Docket Nos. 50-266 and 50-301]

Nuclear Management Company, LLC; Notice of Withdrawal of Application for Amendment to Facility Operating License

The U.S. Nuclear Regulatory Commission (NRC) has granted the request of Nuclear Management Company, LLC (the licensee), to withdraw its September 26, 2003, application for a proposed amendment to Facility Operating License Nos. DPR-24 and DPR-27 for the Point Beach Nuclear Plant, Unit Nos. 1 and 2 , located in Manitowoc County, WI.

The proposed amendment would have revised Technical Specification 5.6.5, “Reactor Coolant System (RCS) Pressure and Temperature Limits Report (PTLR),” Paragraph b. to reference an NRC approval of a revised pressurized thermal shock screening evaluation methodology for Unit 2. This methodology, described in Babcock & Wilcox Report BAW-2308, Revision 1, “Initial RTNDT [reference nil-ductility temperature] of Linde 80 Weld Materials” (August 2003), was submitted by Framatome ANP on behalf of the Babcock & Wilcox Owners Group Reactor Vessel Working Group for NRC review on August 19, 2003.

The Commission had previously issued a Notice of Consideration of Issuance of Amendment published in the Federal Register on November 25, 2003 (68 FR 66138). As discussed, the amendment request was based on an evaluation methodology that was being reviewed, but had not yet been approved for use, by the NRC when the request was submitted. The NRC conveyed to the licensee that the additional time required to complete its review of the BAW-2308, Revision 1 methodology, which remains under review, had the potential to impact the NRC's review activities associated with Point Beach license renewal. By letter dated August 3, 2004, the licensee withdrew the proposed change.

For further details with respect to this action, see the application for amendment dated September 26, 2003, and the licensee's letter dated August 3, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated in Rockville, Maryland, this 16th day of September, 2004.
For the Nuclear Regulatory Commission.
Harold K. Chernoff,
Project Manager, Section 1, Project Directorate III, Division of Licensing Project Management, Office of Nuclear Reactor Regulation.

[FR Doc. 04-21253 Filed 9-21-04; 8:45 am]

BILLING CODE 7590-01-P